FEDERAL COMMUNICATIONS COMMISSION

47 CFR Chapter I

[DA 09-1307]

Possible Revision or Elimination of Rules

AGENCY: Federal Communications Commission.

ACTION: Review of regulations; comments requested.

SUMMARY: This document invites members of the public to comment on the Federal Communication Commission's (FCC's or Commission's) rules to be reviewed pursuant to section 610 of the Regulatory Flexibility Act of 1980, as amended (RFA). The purpose of the review is to determine whether Commission rules whose ten-year anniversary dates are in the year 2008, as contained in the Appendix, should be continued without change, amended, or rescinded in order to minimize any significant impact the rules may have on a substantial number of small entities. Upon receipt of comments from the public, the Commission will evaluate those comments and consider whether action should be taken to rescind or amend the relevant rule(s).

DATES: Comments may be filed on or before September 8, 2009.

ADDRESSES: Submit comments to Federal Communications Commission, Office of the Secretary, 445 12th Street, SW., Washington, DC 20554.

FOR FURTHER INFORMATION CONTACT: Sharon K. Stewart, Special Assistant to the Director, Office of Communications Business Opportunities (OCBO), Federal Communications Commission, (202) 418-0990. People with disabilities may contact the FCC to request reasonable accommodations (accessible format documents, sign language interpreters, CART, etc.) by e-mail: FCC504@fcc.gov or phone: 202-418-0530 or TTY: 202-418-0432.

SUPPLEMENTARY INFORMATION: Each year the Commission will publish a list of ten-year old rules for review and comment by interested parties pursuant to the requirements of section 610 of the RFA.

Public Notice

FCC Seeks Comment Regarding Possible Revision or Elimination of Rules Under The Regulatory Flexibility Act, 5 U.S.C. 610.

CB Docket No. 09-102.

Released: June 24, 2009

1. Pursuant to the Regulatory Flexibility Act (RFA), see 5 U.S.C. section 610, the FCC hereby publishes a plan for the review of rules adopted by the agency in calendar year 1998 which have, or might have, a significant economic impact on a substantial number of small entities. The purpose of the review is to determine whether such rules should be continued without change, or should be amended or rescinded, consistent with the stated objectives of section 610 of the RFA, to minimize any significant economic impact of such rules upon a substantial number of small entities.

2. This document lists the FCC regulations to be reviewed during the next twelve months. In succeeding years, as here, the Commission will publish a list for the review of regulations promulgated ten years preceding the year of review.

3. In reviewing each rule in a manner consistent with the requirements of section 610 the FCC will consider the following factors:

(a) The continued need for the rule;

(b) The nature of complaints or comments received concerning the rule from the public;

(c) The complexity of the rule;

(d) The extent to which the rule overlaps, duplicates, or conflicts with other federal rules and, to the extent feasible, with State and local governmental rules; and

(e) The length of time since the rule has been evaluated or the degree to which technology, economic conditions, or other factors have changed in the area affected by the rule.

4. Appropriate information has been provided for each rule, including a brief description of the rule and the need for, and legal basis of, the rule. The public is invited to comment on the rules chosen for review by the FCC according to the requirements of section 610 of the RFA. All relevant and timely comments will be considered by the FCC before final action is taken in this proceeding.

Comments may be filed using the Commission's Electronic Comment Filing System (“ECFS”) or by filing paper copies. Comments filed through the ECFS may be sent as an electronic file via the Internet to http://www.fcc.gov/cgb/ecfs/. Generally, only one copy of an electronic submission must be filed. In completing the transmittal screen, commenters should include their full name, U.S. Postal Service mailing address, and the applicable docket or rulemaking number.

Parties may also submit an electronic comment by Internet e-mail. To obtain filing instructions for e-mail comments, commenters should send an e-mail to ecfs@fcc.gov, and should include the following words in the body of the message: “get form.” A sample form and directions will be sent in reply. Parties who choose to file by paper must file an original and four copies of each filing.

Filings can be sent by hand or messenger delivery, by commercial overnight courier, or by first-class or overnight U.S. Postal Service mail. The Commission's contractor, Natek, Inc., will receive hand-delivered or messenger-delivered paper filings for the Commission's Secretary at 236 Massachusetts Avenue, NE., Suite 110, Washington, DC 20002.

The filing hours at this location are 8 a.m. to 7 p.m.

All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

• All filings must be addressed to the Commission's Secretary, Office of the Secretary, Federal Communications Commission.

Comments in this proceeding will be available for public inspection and copying during regular business hours at the FCC Reference Information Center, Portals II, 445 12th Street, SW., Room CY-A257, Washington, DC 20554. They may also be purchased from the Commission's duplicating contractor, Best Copy and Printing, Inc., 445 12th Street, SW., Room CY-B402, Washington, DC 20554, telephone 202-488-5300 or 800-378-3160, facsimile 202-488-5563, or via e-mail at fcc@bcniweb.com. To request materials in accessible formats for people with disabilities (Braille, large print, electronic files, audio format), send an e-mail to fcc504@fcc.gov or call the Consumer & Governmental Affairs Bureau at 202-418-0530 (voice), 202-418-0432 (TTY).

For additional information on the requirements of the RFA, the public may contact Eric Malinen, Attorney Advisor, Office of Communications Business Opportunities, 202-418-0990 or visit http://www.fcc.gov/ocbo.

Federal Communications Commission.
Carolyn Fleming Williams, Esq.,
Director, Office of Communications Business Opportunities.

Appendix

List of rules for review pursuant to the Regulatory Flexibility Act of 1980, 5 U.S.C. 610, for the ten-year period beginning in the year 1998 and ending in the year 2008. All listed rules are in Title 47 of the Code of Federal Regulations.

Part 1—Practice and Procedure

Subpart F—Wireless Radio Services Applications and Proceedings

Brief Description: Part 1 contains rules pertaining to Commission practices and procedures. Subpart F sets forth the rules governing the authorization and licensing of Wireless Radio Services.

Need: These rules are needed to set forth the general application process and licensing rules for the Wireless Radio Services, including requirements concerning specific forms, electronic filing, application content, ownership information, waivers, and public notice.

Legal Basis: 47 U.S.C. 154, 161, 303 and 332.

Section Number and Title:

1.901 Basis and purpose.

1.902 Scope.

1.903 Authorization required.

1.907 Definitions.

1.911 Station files.

1.913 Application and notification forms; electronic and manual filing.

1.915 General application requirements.

1.917 Who may sign applications.

1.919 Ownership information.

1.923 Content of applications.

1.924 Quiet zones.

1.925 Waivers.

1.926 Application processing; initial procedures.

1.927 Amendment of applications.

1.929 Classification of filings as major or minor.

1.931 Application for special temporary authority.

1.933 Public notices.

1.934 Defective applications and dismissal.

1.935 Agreements to dismiss applications, amendments or pleadings.

1.937 Repetitious or conflicting applications.

1.939 Petitions to deny.

1.945 License grants.

1.946 Construction and coverage requirements.

1.947 Modification of licenses.

1.948 Assignment of authorization or transfer of control, notification of consummation.

1.949 Application for renewal of license.

1.951 Duty to respond to official communications.

1.955 Termination of authorizations.

1.956 Settlement conferences.

1.957 Procedure with respect to amateur radio operator license.

1.981 Reports, annual and semiannual.

Subpart Q—Competitive Bidding Proceedings

Brief Description: The Part 1 rules state the general rules of practice and procedure before the Federal Communications Commission. Subpart Q sets forth the provisions implementing Section 309(j) of the Communications Act of 1934, as amended, authorizing the Commission to employ competitive bidding procedures to resolve mutually exclusive applications for certain initial licenses.

Need: These rules are needed to implement the Commission's competitive bidding authority under Section 309(j) of the Communications Act of 1934, as amended.

Legal Basis: 47 U.S.C. 154, 303, and 309(j).

Section Number and Title:

1.2102 Eligibility of applications for competitive bidding.

1.2103 Competitive bidding design options.

1.2105 Bidding application and certification procedures; prohibition of collusion.

1.2107 Submission of down payment and filing of long-form applications.

1.2111 Assignment or transfer of control; unjust enrichment.

Part 2—Frequency Allocations and Radio Treaty Matters; General Rules and Regulations

Subpart I—Marketing of Radiofrequency Devices

Brief Description: The rules in part 2, subpart I, define radiofrequency devices and specify the requirements for marketing of such devices.

Need: These rules provide exemption for certain transmitters and amplifiers as required by the Act or are under close control of the licensed user. The rules allow marketing and operation of Radio frequency devices under specific conditions prior to approval of the radio frequency device. The rules are needed to allow manufacturers to evaluate, test and demonstrate the device for product suitability.

Legal Basis: 47 U.S.C. 154, 302a, 303, and 336.

Section Number and Title:

2.803 Marketing of radio frequency devices prior to equipment authorization.

Subpart J—Equipment Authorization Procedures

Brief Description: These rules specify conditions associated with grant of equipment authorization under the Commission's rules.

Need: The rules provide procedures and conditions under which grants can be dismissed, limited and revoked. The rules also specify measurement procedures to be applied generally for radio frequency devices. The rules are needed to ensure devices are properly authorized and are operating in accordance with FCC rules to prevent interference.

Legal Basis: 47 U.S.C. 154, 302a, 303, and 336.

Section Number and Title:

2.901 Basis and purpose.

2.924 Marketing of electrically identical equipment having multiple trade names and models or type numbers under the same FCC identifier.

2.931 Responsibility of the grantee.

2.933 Change in identification of equipment.

2.938 Retention of records.

2.943 Submission of equipment for testing.

2.946 Penalty for failure to provide test samples and data.

2.1041 Measurement procedure.

2.1046 Measurements required: RF power output.

2.1407 Measurements required: Modulation characteristics.

2.1049 Measurements required: Occupied bandwidth.

2.1051 Measurements required: Spurious emissions at antenna terminals.

2.1053 Measurements required: Field strength of spurious radiation.

2.1057 Frequency spectrum to be investigated.

Part 11—Emergency Alert System (EAS)

Subpart D—Emergency Operations

Subpart E—Tests

Brief Description: These rules state certain technical and operational procedures for Emergency Alert System (EAS) Participants.

Need: The identified rules, which govern EAS tests as well as how an EAS Participant should respond to the receipt of an Emergency Action Notification, are necessary to ensure the proper functioning of the Emergency Alert System. The EAS may be used to provide the heads of state and local governments, or their designated representatives, with a means to communicate emergency information with the public.

Legal Basis: Sections 1, 4(i) and (o), 303(r), 624(g) and 706 of the Communications Act of 1934, as amended, 47 U.S.C. 151, 154(i) and (o), 303(r), 544(g) and 606.

Section Number and Title:

11.54(b) EAS operation during a National Level emergency.

[Subpart D]

11.61 Tests of EAS procedures. [Subpart E]

Part 13—Commercial Radio Operators

Brief Description: The Part 13 rules prescribe the manner and conditions under which commercial radio operators are licensed by the Commission.

Need: These rules provide conditional temporary operating authority during which a person who has passed the necessary examination(s) can operate while an application is pending before the Commission.

Legal Basis: 47 U.S.C. 154 and 303, and applicable treaties and agreements to which the United States is a party.

Section Number and Title:

13.9(e) Eligibility and application for new license or endorsement.

13.13(d) Application for a renewed or modified license.

Note: Currently effective 13.9(e) was adopted in 1998 as 13.9(d).

Part 15—Radio Frequency Devices

Subpart A—General

Brief Description: These rules specify the regulations under which certain radio frequency equipment may be operated without an individual license.

Need: These rules provide technical specifications, administrative requirements and other conditions relating to the marketing and operations of Part 15 devices.

Legal Basis: 47 U.S.C. 154, 302a, 303, 304, 307, 336, and 544a.

Section Number and Title:

15.17 Susceptibility to interference.

15.25 Kits.

15.33 Frequency range of radiated measurements.

Subpart C—Intentional Radiators

Brief Description: These rules specify the regulations under which certain radio frequency equipment may be operated without an individual license.

Need: These rules provide technical specifications, administrative requirements and other conditions relating to the marketing and operations of Part 15 devices.

Legal Basis: 47 U.S.C. 154, 302a, 303, 304, 307, 336, and 544a.

Section Number and Title:

15.253 Operation within the bands 46.7-46.9 GHz and 76.0-77.0 GHz.

Part 18—Industrial, Scientific, and Medical Equipment

Subpart B—Applications and Authorizations

Brief Description: These rules specify the technical standards and other requirements for certain equipment or appliances that generate and use local radiofrequency energy for industrial, scientific, medical purposes, excluding telecommunications applications, to be marketed and operated within the United States.

Need: These rules are needed to regulate industrial, scientific and medical (ISM) equipment that emits electromagnetic energy on frequencies within the radiofrequency spectrum in order to prevent harmful interference to authorized radio communications services.

Legal Basis: 47 U.S.C. 4, 301, 302, 303, 304, 307.

Section Number and Title:

18.203 Equipment authorization.

18.207 Technical report.

18.209 Identification of authorized equipment.

18.211 Multiple listing of equipment.

18.212 Compliance information.

Part 20—Commercial Mobile Radio Services

Brief Description: These rules set forth the requirements and conditions applicable to commercial mobile radio service providers as they pertain to the transmission of wireless 911 calls to Public Safety Answering Points (PSAP).

Need: The identified rules require the provision of automatic numbering information and automatic location information and are intended to ensure that PSAPs receive adequate information in order to respond to 911 emergencies.

Legal Basis: Sections 4, 251-2, 303, and 332, 48 Stat. 1066, 1062, as amended; 47 U.S.C. 154, 251-4, 303, and 332.

Section Number and Title:

20.3 Definitions.

20.18 911 Service. [Excluding 47 CFR 20.18(h).]

Part 22—Public Mobile Services

Subpart H—Cellular Radiotelephone Service

Brief Description: The Part 22 rules state the conditions under which radio stations may be licensed and used in the Paging and Rural, Air-Ground, Cellular and Offshore Radiotelephone Services. Subpart H sets forth rules governing the licensing and operation of cellular radiotelephone systems.

Need: This rule informs the public about the notification and filing requirements when a licensee makes minor modifications that result in a change to the station's cellular geographical service area (CGSA) or involve a contract service area boundary (SAB) extension.

Legal Basis: 47 U.S.C. 154, 310, 302, 303, 309 and 332.

Section Number and Title:

22.953(c) Content and form of applications.

Part 24—Personal Communications Services

Subpart I—Interim Application, Licensing and Processing Rules for Broadband PCS

Brief Description: The Part 24 rules set forth the conditions under which portions of the radio spectrum are made available and licensed for personal communications services (PCS). Subpart I sets forth rules governing the submission of applications for broadband PCS licenses.

Need: These rules establish restrictions on assignments and transfers of control of licenses for frequency blocks C and F.

Legal Basis: 47 U.S.C. 154, 301, 303, 308, 309 and 332.

Section Number and Title:

24.839(a)(1) and (2) Transfer of control or assignment of license.

Part 52—Numbering

Subpart C—Number Portability

Brief Description: Section 52.33 permits incumbent local exchange carriers to file tariffs with the Commission establishing a monthly number-portability charge, a number-portability query-service charge, and a number-portability query/administration charge, to recover carrier-specific costs directly related to providing long-term number portability. The rule also allows all interconnected VoIP providers and telecommunications carriers that are not incumbent local exchange carriers to recover such costs in any manner consistent with state and federal law and regulation.

Need: In implementing the statutory requirements for number portability and the promotion of local exchange competition, this rule permits telecommunications carriers to recover costs of providing long-term number portability in a competitively neutral manner, as required by section 251(e).

Legal Basis: 47 U.S.C. 251(b)(2), 251(d)(1), and 251(e)(2).

Section Number and Title:

52.33(a)(1)-(2), (b) Recovery of carrier-specific costs directly related to providing long-term number portability.

Subpart D—Toll Free Numbers

Brief Description: This rule provides that toll free numbers shall be made available to subscribers on a first-come, first-served basis, unless otherwise directed by the Commission.

Need: The toll free number rules enable the Commission to ensure the efficient, fair, and orderly allocation of toll free numbers, as it is required to do under section 251(e) of the Communications Act, as amended. The Commission has determined that a first-come, first-served reservation process ensures an orderly allocation of toll free numbers, avoids the need to resolve competing claims among subscribers to assignment of particular numbers, and avoids problems of accelerated number depletion and subscriber disputes about reservation priority.

Legal Basis: 47 U.S.C. 154(i), 154(j), 251(e).

Section Number and Title:

52.111 Toll free number assignment.

Part 54—Universal Service

Subpart A—General Information

Brief Description: These rules provide general information regarding the Universal Service Fund, including various terms and definitions that are referenced throughout section 54 of the Commission's rules.

Need: In implementing statutory requirements for the Universal Service Fund, these rules provide necessary information regarding terms that may have different definitions outside the universal service context.

Legal Basis: 47 U.S.C. 254.

Section Number and Title:

54.5 Terms and definitions.

Subpart B—Services Designated for Support

Brief Description: These rules specify the supported services for rural, insular and high-cost areas. These rules also specify the requirement to offer all designated services, as well as provide additional time for telecommunications carriers to complete network upgrades.

Need: These rules ensure that rural, insular and high-cost areas receive support for the specified designated telecommunications services.

Legal Basis: 47 U.S.C. 254.

Section Number and Title:

54.101 Supported services for rural, insular and high-cost areas.

Subpart C—Carriers Eligible for Universal Service Support

Brief Description: These rules specify the requirements for the designation of eligible telecommunications carriers. Congress has established that only those entities designated as eligible telecommunications carriers may receive support under the Universal Service support mechanism. These rules include the requirements regarding the relinquishment of designation as an eligible telecommunications carrier.

Need: These rules ensure that the designation process for eligible telecommunications carriers meets the statutory requirements for the Universal Service support mechanism.

Legal Basis: 47 U.S.C. 214(e)(2), 214(e)(4), 214(e)(6), 254(e).

Section Number and Title:

54.201 Definition of eligible telecommunications carriers, generally.

Subpart D—Universal Service Support for High-Cost Areas

Brief Description: These rules specify the requirements for the high-cost support mechanism. These rules provide requirements for how high-cost support will be calculated and distributed to eligible telecommunications providers.

Need: In implementing statutory requirements for the high-cost program of the universal service support mechanism, these rules ensure that rates in rural, insular and high-cost areas, are “reasonably comparable” to rates charged for similar services in urban areas.

Legal Basis: 47 U.S.C. 254(b).

Section Number and Title:

54.301 Local switching support.

54.303 Long term support.

54.307 Support to a competitive eligible telecommunications carrier.

Subpart E—Universal Service Support for Low-Income Consumers

Brief Description: These rules specify the requirements for the Lifeline and Linkup Program of the universal service support mechanism. The rules establish the requirements for eligible consumers and eligible telecommunications carriers. The rules also establish certification and verification requirements, as well as recordkeeping and auditing requirements.

Need: In implementing statutory requirements for the Lifeline and Linkup Program of the universal service support mechanism, these rules ensure that quality telecommunications services are available to low-income consumers at reasonable and affordable rates.

Legal Basis: 47 U.S.C. 254(b).

Section Number and Title:

54.400 Terms and definitions.

54.401 Lifeline defined.

54.403 Lifeline support amount.

Subpart F—Universal Service Support for Schools and Libraries

Brief Description: These rules specify the requirements for participation in the Schools and Libraries Program of the universal service support mechanism. The rules describe requirements regarding eligible entities, and the services eligible for discounted support. The rules also establish procedures for the application process, competitive bidding process, and the distribution of support. Finally, these rules establish recordkeeping and auditing requirements.

Need: In implementing statutory requirements for the Schools and Libraries support mechanism, these rules ensure that eligible schools, libraries, and consortia that include eligible schools and libraries receive discounts for eligible telecommunications services, Internet access, and internal connections.

Legal Basis: 47 U.S.C. 254(h)(1)(B).

Section Number and Title:

54.502 Supported telecommunications services.

54.503 Other supported special services.

54.504 Requests for services.

54.505 Discounts.

54.506 Internal connections.

54.507 Cap.

54.509 Adjustments to the discount matrix.

54.511 Ordering services.

54.515 Distributing support.

54.516 Auditing.

54.517 Services provided by non-telecommunications carriers.

54.518 Support for wide area networks.

54.519 State telecommunications networks.

Subpart G—Universal Service Support for Health Care Providers

Brief Description: These rules specify the requirements for participation in the Rural Health Care Program of the universal service support mechanism. The rules establish the requirements for eligible health care providers, and the services eligible for discounted support. The rules also establish procedures for the application process, competitive bidding process, and the distribution of support. Finally, these rules establish recordkeeping and auditing requirements.

Need: In implementing statutory requirements for the Rural Health Care support mechanism, these rules ensure that discounts are available to eligible rural health care providers for telecommunications services and monthly Internet access service charges.

Legal Basis: 47 U.S.C. 254(h)(2)(A).

Section Number and Title:

54.603 Competitive bid requirements.

54.604 Existing contracts.

54.605 Determining the urban rate.

54.609 Calculating support.

54.619 Audits and recordkeeping.

54.623 Cap.

54.625 Support for services beyond the maximum supported distance for rural health care providers.

Subpart H—Administration

Brief Description: These rules specify the requirements regarding the Universal Service Administrative Company, as the permanent Administrator for the universal service support mechanism. These rules establish the Administrator's functions and responsibilities, as well as the composition of the Administrator's Board of Directors and Committees. These rules also establish requirements regarding contributions and contributor reporting requirements.

Need: In implementing statutory requirements for the universal service support mechanism, these rules provide the framework and requirements for the administration of the program.

Legal Basis: 47 U.S.C. 254.

Section Number and Title:

54.701 Administrator of universal service support mechanisms.

54.702 Administrator's functions and responsibilities.

54.703 The Administrator's Board of Directors.

54.704 The Administrator's Chief Executive Officer.

54.705 Committees of the Administrator's Board of Directors.

54.706 Contributions.

54.708 De minimis exemption.

54.709 Computations of required contributions to universal service support mechanisms.

54.711 Contributor reporting requirements.

54.715 Administrative expenses of the Administrator.

Subpart I—Review of Decisions Issued by the Administrator

Brief Description: These rules specify the requirements regarding review of decisions issued by the Universal Service Administrative Company. These rules establish the filing requirements, review process, and the treatment of disbursements during the pending review process.

Need: In implementing statutory requirements for the universal service support mechanism, these rules provide the framework and requirements for the review of decisions issued by the Administrator.

Legal Basis: 47 U.S.C. 254.

Section Number and Title:

54.719 Parties permitted to seek review of Administrator decisions.

54.720 Filing deadlines.

54.721 General filing requirements.

54.722 Review by the Wireline Competition Bureau or the Commission.

54.723 Standard of review.

54.724 Time periods for Commission approval of Administrator decisions.

54.725 Universal service disbursements during pendency of a request for review and Administrator decision.

Part 61—Tariffs

Subpart E—General Rules for Dominant Carriers

Brief Description: The Part 61 rules are designed to implement the provisions of sections 201, 202, 203, and 204 of the Communications Act of 1934, as amended, and help ensure that rates are just, reasonable, and not unjustly or unreasonably discriminatory. The rules govern the filing, form, content, public notice periods, and accompanying support materials for tariffs. Section 61.52(c) requires incumbent local exchange carriers to file tariffs and associated documents electronically.

Need: This rule makes the filing of tariffs and associated documents easier and less expensive for carriers, and expedites the availability of tariffs and associated documents for public inspection.

Legal Basis: 47 U.S.C. 151, 154(i), 154(j), 201-205, and 403.

Section Number and Title:

61.52(c) Form, size, type, legibility, etc.

Brief Description: The Part 61 rules are designed to implement the provisions of sections 201, 202, 203, and 204 of the Communications Act of 1934, as amended, and help ensure that rates are just, reasonable, and not unjustly or unreasonably discriminatory. The rules govern the filing, form, content, public notice periods, and accompanying support materials for tariffs. Section 61.58 establishes notice requirements for filed tariffs. Section 61.58(e) provides notice requirements for tariffs filed by non-price cap carriers.

Need: Section 61.58(e) was adopted to provide adequate opportunity for review of tariffs filed by non-price cap carriers. The periods were shortened to reduce carriers' regulatory burden without restricting the Commission's ability to perform its statutory duty.

Legal Basis: 47 U.S.C. 151, 154(i), 154(j), 201-205, and 403.

Section Number and Title:

61.58(e) Notice requirements.

Part 64—Miscellaneous Rules Relating to Common Carriers

Subpart G—Furnishing of Enhanced Services and Customer-Premises Equipment by Communications Common Carriers; Telephone Operator Services

Brief Description: This rule specifies that providers of operator services must disclose to the consumer, at no charge and before connecting any interstate non-access code operator service call, how to obtain the total cost of the call before providing further oral advice to the consumer on how to proceed to make the call.

Need: These provisions address the problem of widespread consumer dissatisfaction with the high rates charged by many operator services providers for calls from public phones and other aggregator locations such as hotels, hospitals, and educational institutions. The rules were designed to ensure that consumers receive sufficient information about the rates they will pay for operator services at public phones and other aggregator locations, thereby fostering a more competitive operator service provider marketplace.

Legal Basis: 47 U.S.C. 151, 154, 160, 201-205, 215, 218, 226, 254.

Section Number and Title:

64.703(a)(4) Consumer information.

Brief Description: These rules exempt Commercial Mobile Radio Service (CMRS) aggregators (entities that make telephones available to the public or to transient users of the entity's premises for interstate calls using a provider of CMRS operator services) and providers of CMRS operator services from the general rules (a) prohibiting aggregators from blocking consumers from calling 800 and 950 access code numbers to access the consumer's choice of operator services providers; and (b) restricting charges related to the provision of operator services (e.g., prohibiting operator service providers from billing for unanswered telephone calls).

Need: The Commission has determined that the equal access and unblocking regulations established in this section are generally unnecessary to protect consumers of CMRS, and would increase the cost of CMRS service without producing any identifiable benefits.

Legal Basis: 47 U.S.C. 154, 201, 218, 226(e).

Section Number and Title:

64.704(e) Call blocking prohibition/exemption for CMRS aggregators and CMRS operator services providers.

64.705(c) Restrictions on charges related to the provision of operator services/exemption for CMRS aggregators and CMRS operator services providers.

Brief Description: These rules define a “CMRS aggregator” as “an aggregator that, in the ordinary course of its operations, makes telephones available to the public or to transient users of its premises for interstate telephone calls using a provider of CMRS operator services;” “CMRS operator services” as operator services provided by means of a commercial mobile radio service; and “Provider of CMRS operator services” as a provider of operator services that provides CMRS operator services.

Need: These rules define and provide necessary information regarding specific types of service providers that are exempt from certain portions of the rules in this subpart and that may have different definitions outside of this context.

Legal Basis: 47 U.S.C. 154, 201, 202, 218, 226, 332.

Section Number and Title:

64.708(d) Definitions: CMRS aggregator.

64.708(e) Definitions: CMRS operator services.

64.708(k) Definitions: Provider of CMRS operator services.

Brief Description: Section 64.709 provides for the filing of operator service informational tariffs, and requires that such tariffs must include specific rates expressed in dollars and cents, as well as applicable per-call aggregator surcharges or other per-call fees, if any, that are collected from consumers.

Need: This provision seeks to make operator service provider informational tariffs more useful to consumers, allowing them to make rational purchasing decisions, and impose market-based discipline on operator service providers.

Legal Basis: 47 U.S.C. 226(h)(1)(A).

Section Number and Title:

64.709 Informational tariffs.

Brief Description: This rule establishes certain requirements for operator services providers serving prison inmates, such as required disclosures concerning call rates and total costs, and requiring service providers to allow prisoners to terminate a call at no charge before the call is connected.

Need: This provision furthers the Commission's statutory obligation to “ensur[e] that consumers have the opportunity to make informed choices” in using operator services to place interstate telephone calls. The Commission adopted price disclosure rules for providers of inmate operator services that are similar to those applicable to operator service providers in order to “eliminate some of the abusive practices that have led to complaints” and to protect recipients of collect calls from inmates from being charged excessive rates by a monopoly provider.

Legal Basis: 47 U.S.C. 47 U.S.C. 151, 154, 160, 201-205, 215, 218, 226, 254.

Section Number and Title:

64.710 Operator services for prison inmate phones.

Subpart U—Customer Proprietary Network Information

Brief Description: These rules provide general information, including various terms and definitions referenced throughout subpart U, regarding the proper use of customer proprietary network information (CPNI), and the duty of telecommunications carriers to protect the confidentiality of CPNI.

Need: Congress recognized that the new competitive market forces and technology ushered in by the 1996 Act had the potential to threaten consumer privacy interests, and therefore enacted section 222 to prevent consumer privacy protections from being inadvertently swept away along with the prior limits on competition. The CPNI regulations in section 222 are largely consumer protection provisions that establish restrictions on carrier use and disclosure of personal customer information. The statutory design expressly recognizes the duty of all carriers to protect customer information and embodies the principle that customers must be able to control information they view as sensitive and personal from use, disclosure, and access by carriers.

Legal Basis: 47 U.S.C. 154, 222, 254(k).

Section Number and Title:

64.2001 Basis and purpose.

64.2003 Definitions.

Brief Description: This rule describes the circumstances under which telecommunications carriers may, and may not, use, disclose or permit access to CPNI without prior customer approval.

Need: These rules further Congress' goals of fostering competition in telecommunications markets and ensuring the privacy of customer information.

Legal Basis: 47 U.S.C. 154, 201, 218, 222, 254(k).

Section Number and Title:

64.2005 Use of customer proprietary network information without customer approval.

Brief Description: This rule establishes the methods telecommunications carriers may use to obtain valid prior customer approval for the use of CPNI; requires carriers to maintain the customer's approval or disapproval in effect until the customer revokes or limits it; and requires carriers to maintain records of customer approval for at least one year.

Need: These rules further Congress' goals of fostering competition in telecommunications markets and ensuring the privacy of customer information.

Legal Basis: 47 U.S.C. 154, 201, 218, 222, 254(k).

Section Number and Title:

64.2007 Approval required for use of customer proprietary network information.

Brief Description: This rule requires carriers to provide notice to customers of their right to restrict the use of, disclosure of, and access to the customer's CPNI, establishes the methods for providing and the required content of such notice, and requires carriers to maintain records of this notification for at least one year.

Need: These rules further Congress' goals of fostering competition in telecommunications markets and ensuring the privacy of customer information.

Legal Basis: 47 U.S.C. 154, 201, 218, 222, 254(k).

Section Number and Title:

64.2008 Notice required for use of customer proprietary network information.

Brief Description: This rule establishes safeguards that carriers must implement to ensure compliance with the Commission's CPNI regulations, including specific record keeping, personnel training, and disciplinary, compliance and certification processes.

Need: These rules further Congress' goals of fostering competition in telecommunications markets and ensuring the privacy of customer information.

Legal Basis: 47 U.S.C. 154, 201, 218, 222, 254(k).

Section Number and Title:

64.2009 Safeguards required for use of customer proprietary network information.

Part 69—Access Charges

Subpart C—Computation of Charges for Price Cap Local Exchange Carriers

Brief Description: The Part 69 rules are designed to implement the provisions of sections 201 and 202 of the Communications Act of 1934, as amended, and to protect consumers by helping to prevent the exercise of market power by incumbent local exchange carriers. Section 69.153 allows price cap LECs to assess a per-line charge on multi-line business subscribers' presubscribed interexchange carriers. This charge is designed to reflect the non-traffic sensitive nature of local loop costs. Section 69.153(e) establishes the maximum monthly presubscribed interexchange carrier charge (PICC) price cap LECs may assess for Centrex lines, adopting a ratio of up to nine Centrex lines for one private branch exchange (PBX) trunk.

Need: Section 69.153(e) provides similar regulatory treatment with regard to PICC between the functionally equivalent Centrex and PBX trunk services.

Legal Basis: 47 U.S.C. 154, 201, 202, 203, 205, 218, 220, 254, 403.

Section Number and Title:

69.153 Presubscribed interexchange carrier charge (PICC).

Part 73—Broadcast Radio Services

Subpart E—Television Broadcast Stations

Brief Description: These rules specify showings that must be made in applications filed by TV broadcast stations who wish to use electrical beam tilt.

Need: In implementing statutory requirements for the transition to digital broadcasting, these rules set forth technical showings that applicants must provide when applying to use electrical beam tilt to increase the power of an UHF DTV station. These showings are necessary for Commission staff evaluation of competing applications for DTV stations.

Legal Basis: 47 U.S.C. 154, 303, 334, 336.

Section Number and Title:

73.625(c)(5) DTV coverage of principal community and antenna system.

Subpart H—Rules Applicable to All Broadcast Stations

Brief Description: The Part 73 rules state the general rules applicable to all broadcast services. Subpart H sets forth the rules common to all AM, FM, TV and Class A TV broadcast services, commercial and noncommercial. This rule applies the prohibition of collusion to all broadcast services subject to competitive bidding.

Need: These rules are needed to implement the Commission's competitive bidding authority for broadcast services under Section 309(j) of the Communications Act of 1934, as amended, and to confirm that the Commission's rules prohibiting collusion applies to all broadcast services subject to competitive bidding. This section conforms the auction rules and procedures for broadcast construction permits with the Commission's Part 1 auction rules.

Legal Basis: 47 U.S.C. 154, 303, 309(j), 334 and 336.

Section Number and Title:

73.3525(1) Agreements for removing application conflicts.

Brief Description: This rule applies subsections (c) and (d) of Section 73.3597 to mutually exclusive noncommercial applications filed after the release of 1998 Biennial Regulatory Review, Streamlining of Mass Media Applications, Rules, and Processes, MM Docket 98-43, 13 FCC Rcd 23056 (Nov. 25, 1998).

Need: This section clarifies which applications are subject to subsections (c) and (d) of this rule.

Legal Basis: 47 U.S.C. 154, 301, 303, 307, 308, and 309.

Section Number and Title:

73.3597(c)(1)(iii) Procedures on transfer and assignment applications.

Brief Description: This rule eliminates the requirement that sales agreements and contracts be filed with the Commission within thirty days of execution, where the reporting entity has already filed the sales contract with an assignment or transfer application. Need: This section reduces the filing burdens on licensees.

Legal Basis: 47 U.S.C. 154, 301, 303, 307, 308, and 309.

Section Number and Title:

73.3613(b)(7) Filing of contracts.

Subpart I—Procedures for Competitive Bidding and for Applications for Noncommercial Educational Broadcast Stations on Non-Reserved Channels

Brief Description: The Part 73 rules state the general rules for broadcast services. Subpart I sets forth the procedures for competitive bidding and applications for non-commercial educational broadcast stations on non-reserved channels. The rules below implement amended Section 309(j) of the Communications Act, which requires the Commission to use auctions to select from among all mutually exclusive applications broadcast construction permits.

Need: These rules amend the disparate application procedures for the various broadcast services to establish a uniform window filing approach. These rules also conform the procedures for auctioning mutually exclusive applications for broadcast construction permits to the Commission's Part 1 auction rules.

Legal Basis: 47 U.S.C. 154, 301, 303, 309 (j), 334, and 336.

Section Number and Title:

73.5000 Services subject to competitive bidding.

73.5002 Application and certification procedures; return of mutually exclusive applications not subject to competitive bidding procedures; prohibition of collusion.

73.5003 Submission of full payments.

73.5005 Filing of long-form applications.

73.5006 Filing of petitions to deny against long-form applications.

73.5007 Designated entity provisions.

73.5008 Definitions applicable for designated entity provisions.

73.5009 Assignment of transfer of control.

Part 74—Experimental Radio, Auxiliary, Special Broadcast and Other Program Distributional Services

Subpart L—FM Broadcast Translator Stations and FM Broadcast Booster Stations

Brief Description: These rules set forth technical standards for FM translator and booster stations along the United States borders.

Need: These rules are necessary to prevent interference with Canadian and Mexican broadcast stations.

Legal Basis: 47 U.S.C. 154, 303, 307, and 554.

Section Number and Title:

74.1235(d)(1), (2) and (3) Power limitations and antenna systems.

Part 79—Closed Captioning and Video Description of Video Programming

Brief Description: In 1996, Congress added section 713 to the Communications Act of 1934, as amended (the Act), requiring the Commission to adopt rules for the closed captioning of video programming. Among other things, these rules establish implementation schedules, provide for who is responsible for compliance and how compliance is determined, and set forth categorical, self-implementing exemptions from the rules. In 1998, the Commission added another self-implementing exemption to those it adopted the previous year. This one, found at 79.1(d)(13), covers instructional programming that is locally produced by public television stations for use in grades K-12 and post secondary schools. Regarding how compliance is determined, the Commission also added a provision to the rules that recognizes that there may be times when the captioning requirements can be problematic due to a variety of factors. As such, 79.1(e)(10) states that the Commission will consider showings that any lack of captioning was de minimis and reasonable under the circumstances.

Need: Closed captioning is the visual display of the audio portion of video programming. These rules implement section 713 of the Act, through which Congress required that video programming be closed captioned in order to ensure access by persons with hearing disabilities to video programming. The 1998 rule changes allow for certain educational programming to be exempt from the closed captioning rules, because such programming is not intended for widespread distribution, and it is subject anyway to other Federal requirements that ensure that adequate efforts will be taken to make it accessible on a case by case basis. The rule changes also provide guidance as to how the Commission will address complaints regarding lack of closed captioning where the lack of captioning arguably was de minimis and reasonable under the circumstances.

Legal Basis: 47 U.S.C. 613

Section Number and Title:

79.1(d)(13), (e)(10) Closed captioning of video programming.

Part 80—Stations in the Maritime Services

Subpart B—Applications and Licenses

Brief Description: The Part 80 rules set forth the conditions under which portions of the radio spectrum are made available and licensed for stations in the maritime services. Subpart B sets forth the procedures and requirements for the filing of applications for license to operate radio facilities in the maritime services.

Need: These rules establish an exemption for certain vessels from annual inspection and requirements for partitioning licenses and disaggregating spectrum.

Legal Basis: 47 U.S.C. 154, 303, 307, 309, and 332.

Section Number and Title:

80.59(d)(2) Compulsory ship inspections.

80.60 Partitioned licenses and disaggregated spectrum.

Subpart C—Operating Requirements and Procedures

Brief Description: The Part 80 rules set forth the conditions under which portions of the radio spectrum are made available and licensed for stations in the maritime services. Subpart C sets forth the technical, operational, and administrative requirements for use of the spectrum and equipment for stations in the maritime services.

Need: This rule permits certain VHF public coast licensees and certain automated maritime telecommunications system (AMTS) coast licensees to transfer or assign their channel(s) or channel block(s) to another entity.

Legal Basis: 47 U.S.C. 154, 303, 307, 309, and 332.

Section Number and Title:

80.70(c) Special conditions relative to coast station VHF facilities.

Subpart H—Frequencies

Brief Description: The Part 80 rules set forth the conditions under which portions of the radio spectrum are made available and licensed for stations in the maritime services. Subpart H describes the carrier frequencies and general uses of radiotelegraphy for distress, urgency, safety, call and reply; working; digital selective calling; narrow-band direct-printing; and facsimile for stations within the maritime services.

Need: These rules list and establish requirements for the radiotelephony working frequencies assignable to Marine VHF 156-162 MHz band public coast stations for public correspondence communications with ship stations and units on land.

Legal Basis: 47 U.S.C. 154, 303, 307, 309, and 332.

Section Number and Title:

80.371(c)(1)(i), (ii), (iii), (2), (3), and (4) Public correspondence frequencies.

Subpart Y—Competitive Bidding Procedures

Brief Description: The Part 80 rules set forth the conditions under which portions of the radio spectrum are made available and licensed for stations in the maritime services. Subpart Y sets forth the rules governing the use of competitive bidding to resolve mutually exclusive VHF Public Coast Service Area (VPCSA) and automated maritime telecommunications system (AMTS) applications for initial licenses.

Need: These rules are needed to implement the Commission's competitive bidding authority under 47 U.S.C. 309(j). The provisions in 80.1252 are necessary to administer the Commission's designated entity program under which small businesses meeting certain eligibility criteria may receive bidding credits on their winning bids.

Legal Basis: 47 U.S.C. 154, 303, 307, 309, and 332.

Section Number and Title:

80.1251 Maritime communications [services] subject to competitive bidding.

80.1252 Designated entities.

Part 90—Private Land Mobile Radio Services

Subpart J—Non-Voice and Other Specialized Operations

Brief Description: The Part 90 rules state the conditions under which radio communications systems may be licensed and used in the Public Safety, Industrial/Business Radio Pool, and Radiolocation Radio Services. Subpart J sets forth requirements and standards for licensing and operation of non-voice and other specialized radio uses, including secondary signaling, telemetry, radioteleprinter, radiofacsimile, automatic vehicle monitoring, radio call box, relay, vehicular repeater, and control station operations.

Need: This rule permits the use of 40.66-40.70 MHz and 216-220 MHz frequency bands for the tracking of, and the telemetry of scientific data from ocean buoys and animal wildlife.

Legal Basis: 47 U.S.C. 154, 303, and 332.

Section Number and Title:

90.248 Wildlife and ocean buoy tracking.

Subpart M—Intelligent Transportation Systems Radio Service

Brief Description: The Part 90 rules state the conditions under which radio communications systems may be licensed and used in the Public Safety Pool, Industrial/Business Radio Pool, and Radiolocation Radio Services. Subpart M governs Intelligent Transportation Systems radio services, which include the Location and Monitoring Service (LMS) and Dedicated Short Range Communications Service (DSRCS).

Need: The rule, permits LMS licensees to partition licenses and disaggregate spectrum, and is intended to allow auction winners of LMS spectrum to customize their LMS systems to suit their business plans and helps remove entry barriers for small businesses. Legal Basis: 47 U.S.C. 154(i), 161, 303(g), 303(r), 332(c)(7).

Section Number and Title:

90.365 Partitioned licenses and disaggregated spectrum.

Subpart R—Regulations Governing the Licensing and Use of Frequencies in the 764-776 and 794-806 MHz Bands

Brief Description: The Part 90 rules state the conditions under which radio communications systems may be licensed and used in the Public Safety Pool, Industrial/Business Radio Pool, and Radiolocation Radio Services. Subpart R sets forth the regulations governing the licensing and operations of all systems operating in the 763-775 MHz and 793-805 MHz frequency bands.

Need: The identified rules govern eligibility as well as operational, planning and licensing requirements and standards for stations licensed in the 763-775 MHz and 793-805 MHz bands.

Legal Basis: 47 U.S.C. 154(i), 161, 303(g), 303(r), 332(c)(7).

Section Number and Title:

90.521 Scope.

90.523 Eligibility.

90.527 Regional plan requirements.

90.531 Band plan.

90.533 Transmitting sites near the U.S./Canada or U.S./Mexico border.

90.535 Modulation and spectrum usage efficiency requirements.

90.537 Trunking requirement.

90.539 Frequency stability.

90.541 Transmitting power limits.

90.543 Emission limitations.

90.545 TV/DTV interference protection criteria.

90.549 Transmitter certification.

90.551 Construction requirements.

Subpart T—Regulations Governing Licensing and Use of Frequencies in the 220-222 MHz Band

Brief Description: The Part 90 rules state the conditions under which radio communications systems may be licensed and used in the Public Safety, Industrial/Business Radio Pool, and Radiolocation Radio Services. Subpart T sets forth the administrative, operational, and technical rules governing licensing and use of frequencies in the 220-222 MHz Band, including eligibility, frequency and channel availability, permissible operations, frequency selection and assignment, and construction requirements.

Need: These rules calculate Phase I licensee service areas based on predicted service contours; inform Phase I licensees when they may add, remove, or modify a transmitter site within their existing service area without prior notification to the Commission; when they may exchange multiple licenses for a single authorization and when adding, removing or modifying a site requires coordination of those actions to avoid and resolve issues of harmful interference.

Legal Basis: 47 U.S.C. 154, 303, and 332.

Section Number and Title:

90.723(g) and (h) Selection and assignment of frequencies.

90.745 Phase I licensee service areas.

Subpart X—Competitive Bidding Procedures for Location and Monitoring Service

Brief Description: The part 90 rules state the conditions under which radio communications systems may be licensed and used in the Public Safety, Industrial/Business Radio Pool, and Radiolocation Radio Services. Subpart X sets forth the rules governing the use of competitive bidding to resolve mutually exclusive multilateration Location and Monitoring Service applications for initial licenses.

Need: These rules are needed to implement the Commission's competitive bidding authority under 47 U.S.C. 309(j). The provisions in 90.1103 are necessary to administer the Commission's designated entity program under which small businesses meeting certain eligibility criteria may receive bidding credits on their winning bids.

Legal Basis: 47 U.S.C. 154, 161, 303, 309, and 332.

Section Number and Title:

90.1101 Location and monitoring service subject to competitive bidding.

90.1103 Designated entities.

Part 95—Personal Radio Services

Subpart A—General Mobile Radio Service (GMRS)

Brief Description: The Part 95 rules govern the Personal Radio Services, including the General Mobile Radio Service, Family Radio Service, Radio Control Radio Service, Citizens Band Radio Service, 218-219 MHz Service, Low Power Radio Service, Wireless Medical Telemetry Service, Medical Implant Communications Service, and Multi-Use Radio Service. Subpart A applies to the General Mobile Radio Service.

Need: The rule informs station operators which communications are prohibited, including messages for hire, false or deceptive messages, and messages in connection with any illegal activity.

Legal Basis: 47 U.S.C. 154 and 303.

Section Number and Title:

95.183 Prohibited communications.

Part 97—Amateur Radio Service

Subpart A—General Provisions

Brief Description: The Part 97 rules set forth the conditions under which portions of the radio spectrum are made available and licensed for amateur radio service. Subpart A contains administrative, technical, and operational requirements for use of the spectrum and equipment in the amateur radio service.

Need: This rule provides guidance on the issuance of International Amateur Radio Permits (IARP).

Legal Basis: 47 U.S.C. 154 and 303.

Section Number and Title:

97.5(e) Station license required.

Subpart D—Technical Standards

Brief Description: The Part 97 rules set forth the conditions under which portions of the radio spectrum are made available and licensed for amateur radio service. Subpart D outlines technical standards for the frequency bands available to amateur stations.

Need: The rule suspends amateur station transmitting in the 76-77 GHz segment of the 4 mm band.

Legal Basis: 47 U.S.C. 154 and 303.

Section Number and Title:

97.303(r) Frequency sharing requirements.

Part 101—Fixed Microwave Services

Subpart A—General

Brief Description: The Part 101 rules prescribe the manner in which portions of the radio spectrum may be made available for private operational, common carrier, Local Television Transmission Service (LTTS), 24 GHz Service, Local Multipoint Distribution Service (LMDS), 39 GHz, Multiple Address Service (MAS), Multichannel Video Distribution and Data Service (MVDDS) and 70-80-90 GHz fixed, microwave operations that require transmitting facilities on land or in specified offshore coastal areas within the continental shelf. Subpart A sets forth the scope of and authority for the remaining rules in Part 101, as well as setting forth definitions of certain terms used in the remaining rules.

Need: The identified rule is necessary to refer to the rules of practice and procedure in Part 1 of the rules that are applicable to services regulated under Part 101 of the rules.

Legal Basis: 47 U.S.C. 154 and 303.

Section Number and Title:

101.1(a) Scope and authority.

Subpart B—Applications and Licenses

Brief Description: The Part 101 rules prescribe the manner in which portions of the radio spectrum may be made available for private operational, common carrier, Local Television Transmission Service (LTTS), 24 GHz Service, Local Multipoint Distribution Service (LMDS), 39 GHz, Multiple Address Service (MAS), Multichannel Video Distribution and Data Service (MVDDS) and 70-80-90 GHz fixed, microwave operations that require transmitting facilities on land or in specified offshore coastal areas within the continental shelf. Subpart B sets forth the rules governing applications and licenses in those fixed microwave services subject to Part 101.

Need: The identified rules are necessary to establish service areas and performance requirements for the 38.6-40.0 GHz band, allow partitioning and disaggregation in that band, define the general filing requirements for licensees in the private operational, common carrier, LTTS, 24 GHz, LMDS, MAS, MVDDS and 70-80-90 GHz Services and to provide specific procedures for the licensing, operation, and modification of facilities in those services.

Legal Basis: 47 U.S.C. 154 and 303.

Section Number and Title:

101.17 Performance requirements for the 38.6-40.0 GHz frequency band.

101.31(e)(1)(viii) Temporary and conditional authorizations.

101.56 Partitioned service areas (PSAs) and disaggregated spectrum.

101.64 Service areas.

Subpart C—Technical Standards

Brief Description: The Part 101 rules prescribe the manner in which portions of the radio spectrum may be made available for private operational, common carrier, Local Television Transmission Service (LTTS), 24 GHz Service and Local Multipoint Distribution Service (LMDS), 39 GHz, Multiple Address Service (MAS), Multichannel Video Distribution and Data Service (MVDDS) and 70-80-90 GHz fixed, microwave operations that require transmitting facilities on land or in specified offshore coastal areas within the continental shelf. Subpart C sets forth the technical requirements for such services.

Need: The identified rules are necessary to assign frequencies for systems in the 38.6-40 GHz band on an Economic Area service area basis and to clarify that non-LMDS operations in the 31,000-31,300 MHz band licensed after March 11, 1997 are secondary to Local Multipoint Distribution Service operations and are unprotected with respect to each other.

Legal Basis: 47 U.S.C. 154 and 303.

Section Number and Title:

101.103(b)(3) Frequency coordination procedures.

101.147(v)(2) Frequency assignments.

Subpart N—Competitive Bidding Procedures for the 38.6-40.0 GHz Band

Brief Description: The part 101 rules prescribe the manner in which portions of the radio spectrum may be made available for private operational, common carrier, Local Television Transmission Service (LTTS), 24 GHz Service and Local Multipoint Distribution Service (LMDS), 39 GHz, Multiple Address Service (MAS), Multichannel Video Distribution and Data Service (MVDDS) and 70-80-90 GHz fixed, microwave operations that require transmitting facilities on land or in specified offshore coastal areas within the continental shelf. Subpart N sets forth the rules governing the use of competitive bidding to resolve mutually exclusive applications for initial licenses in the 38.6-40.0 GHz Band.

Need: These rules are needed to implement the Commission's competitive bidding authority under 47 U.S.C. 309(j). The provisions in 47 CFR 101.1208 and 101.1209 are necessary to administer the Commission's designated entity program under which small businesses meeting certain eligibility criteria may receive bidding credits on their winning bids.

Legal Basis: 47 U.S.C. 154, 303, and 309.

Section Number and Title:

101.1201 38.6-40.0 GHz subject to competitive bidding.

101.1208 Bidding credits for small businesses.

101.1209 Definitions.

[FR Doc. E9-15928 Filed 7-6-09; 8:45 am]

BILLING CODE 6712-01-P